DEPARTMENT OF COMMERCE

[I.D. 062600A]

Submission for OMB Review; Proposed Information Collection; Comment Request

The Department of Commerce has submitted to the Office of Management and Budget (OMB) for clearance the following proposal for collection of information under the provisions of the Paperwork Reduction Act (44 U.S.C. Chapter 35).

Agency: National Oceanic and Atmospheric Administration (NOAA).

Title: Southwest Region Logbook Family of Forms.

Agency Form Number(s): None.

OMB Approval Number: 0648-0214.

Type of Request: Regular submission.

Burden Hours: 2,314.

Number of Respondents: 160.

Average Hours Per Response: In the Pacific pelagic fishery: 5.25 minutes/day for a logbook, 3 minutes/trip for a pre-trip notification, 1 hour for an observer placement meeting, 4 hours per claim for lost fishing time, 4 hours for installation of a vessel monitoring system (VMS), 2 hours per year for VMS maintenance, and 24 seconds/day for automatic VMS monitoring. In the crustacean fishery: 3 min./trip for a pre-landing or pre-offloading notification, 5 minutes per day for a logbook, 3 minutes for an at-sea catch report, 3 minutes for a pre-season VMS notification, 24 seconds a day for automatic VMS monitoring, and 5 minutes for sales reports.

In the bottomfish and seamount groundfish fishery, 2 hours for a protected species interaction report. In the precious coral fishery, 7 minutes a day for a logbook and 5 minutes per sales report. In the experimental fishing program, 4 hours per report.

Needs and Uses: Participants in Federally-managed fisheries in the Western Pacific are required to provide certain information about their fishing activities. The information is needed for the management of the fishery.

Affected Public: Businesses and other for-profit organizations, and individuals.

Frequency: On occasion.

Respondent's Obligation: Mandatory.

OMB Desk Officer: David Rostker, (202) 395-3897.

Copies of the above information collection proposal can be obtained by calling or writing Linda Engelmeier, DOC Forms Clearance Officer, (202) 482-3272, Department of Commerce, Room 6086, 14th and Constitution Avenue, NW, Washington, DC 20230 (or via the Internet at

lengelme@doc.gov).

Written comments and recommendations for the proposed information collection should be sent within 30 days of publication of this notice to David Rostker, OMB Desk Officer, Room 10202, New Executive Office Building, Washington, DC 20503.

Dated: June 23, 2000.
Madeleine Clayton,
Management Analyst, Office of the Chief Information Officer.

[FR Doc. 00-16537 Filed 6-29-00; 8:45 am]

BILLING CODE 3510-22-F